DEPARTMENT OF AGRICULTURE

Natural Resources Conservation Service

[Docket No. NRCS-2022-0017]

Notice of Intent To Prepare an Environmental Impact Statement for the McGriff Lakes—Sutter Basin Watershed Flood Control and Flood Safety Project Sutter County, California

AGENCY: Natural Resources Conservation Service, USDA.

ACTION: Notice of intent to prepare an environmental impact statement (EIS).

SUMMARY: The Natural Resources Conservation Service (NRCS) California State Office announces its intent to prepare an EIS for the McGriff Lakes—Sutter Basin Watershed Flood Control and Flood Safety Project, which is located approximately 30 miles northwest of Sacramento in the proximity of Knights Landing, California. NRCS is requesting comments to identify significant issues and alternatives to be addressed in the EIS from all interested individuals, Tribes, and Federal, State and local Agencies and jurisdictions. The EIS process will examine alternative solutions to modernize the existing Karnak Drainage Facility, portions of which are over 100 years old, to continue to provide reliable flood protection for the Reclamation District No. 1500 (RD 1500) service area. The Reclamation District service area includes over 60,000 acres of agricultural farmland, the community of Robbins and surrounding rural areas, and California State Route 113, a designated emergency route through the watershed. The primary purpose for this watershed plan is to provide reliable and long-term flood prevention and damage reduction to the RD 1500 service area and improve public safety and emergency access. Although the existing Karnak Drainage Facility has been well maintained, the required repairs for the pump stations are becoming more costly while the reliability of the facility is decreasing because parts needed for repair and continued operation are no longer available and must be custom fabricated. The aging infrastructure and lack of parts availability puts all land within the RD1500 service area at risk in the event of a significant rainfall event. Without adequate and reliable flood control, millions of dollars in agricultural products would be at risk, the designated emergency route would be in jeopardy of flood closures, and substantial property damage and potential loss of life are possible in the community of Robbins and surrounding areas.

DATES: We will consider comments that we receive within 30 days after date of publication of this notice in the Federal Register. Comments received after 30 days will be considered to the extent possible.

ADDRESSES: We invite you to submit comments in response to this notice. You may submit your comments through one of the methods below:

• Federal eRulemaking Portal: Go to http://www.regulations.gov and search for docket ID NRCS-2022-0017. Follow the online instructions for submitting comments; or

• Mail or Hand Delivery: Mr. Roger Cornwell, RD 1500 General Manager, PO Box 96, Robbins, CA 95676; or

• Email: commentsRD1500@gmail.com.

For written comments, specify the docket ID NRCS-2022-0017. All comments received will be posted without change and made publicly available on www.regulation.gov.

FOR FURTHER INFORMATION CONTACT: Mr. Ernesto A. De La Riva, telephone: (530) 792-5680; email: Ernesto.delariva@usda.gov. In addition, for questions related to submitting comments via RD 1500 General Manager: Mr. Roger Cornwell at (530) 738-4423, Fax (530) 738-4327, commentsRD1500@gmail.com, or the project website at: https://sutterbasinwater.com/flood-control-flood-safety-rehabilitation-project/. Persons with disabilities who require alternative means for communication should contact the U.S. Department of Agriculture (USDA) Target Center at (202) 720-2600 (voice).

SUPPLEMENTARY INFORMATION:

Purpose and Need

The watershed project would be implemented as flood protection, as authorized under sections 3 and 4 of Public Law 83-566. The primary purpose for this watershed plan is to provide reliable and long-term flood prevention and damage reduction to the RD 1500 service area and improve public safety and emergency access. Watershed planning was authorized under Public Law 83-566, the Watershed Protection and Flood Prevention Act of 1954, as amended, and Public Law 78-534, the Flood Control Act of 1944.

RD 1500, one of the largest reclamation districts in California, was created by special act of the State Legislature in 1913. It provides drainage and flood control to an area of approximately 67,850 acres within its service area, including protecting the community of Robbins and surrounding rural residential property from flood damage, protecting over 60,000 acres of rural farmland from flooding, and providing flood protection of SR 113 and other local emergency response roadways. The project will address issues at the Karnak Drainage Facility which was originally built in 1914 with two additional facilities added in 1929 and 1952. These facilities have continued to protect the RD1500 for over 100 years. However, they are all past their useful service life. While RD1500 has continued to maintain these facilities, it has become increasingly difficult to obtain parts and keep the facilities functional during storm events.

The Karnak Drainage Facilities provided flood protection for 70 Year-Level storm events from January to March of 2017, which were the second highest precipitation events in the last 144 years record in the northern California area. Uncharacteristically of the facilities, all pumping stations were operational at the time. The Karnak Drainage Facility was able to provide flood reduction to approximately 31,200 acres of prime farmland within the Sutter Basin and the community of Robbins would have been under 5 to 6 feet of water, completely cutting off access to SR 113, which at the time was being use by residence of Oroville, California as an evacuation route from the Orville Dam crisis of February 2017.

To meet the purpose of continuing flood protection for the Sutter Basin, modernization of the existing Karnak Facilities will be necessary. A Preliminary Investigative Report (PIR), completed by RD1500 in 2021, investigated and studied possible solutions to address flood protection in the Sutter Basin. As a result of the new information obtained during an EA process, the level of analysis this watershed project needs is more extensive than anticipated during scoping in 2021. Estimated Federal funds required for the construction of the proposed action may exceed $25 million and the proposed action will therefore require congressional approval per the 2018 Agriculture Appropriations Act amended funding threshold. In accordance with 7 CFR 650.7(a)(2), an EIS is required for projects requiring congressional approval.

Preliminary Proposed Action and Alternatives, Including No Action

The objective of the EIS is to formulate and evaluate alternatives for flood prevention in the RD 1500 service area. Three Action Alternatives are expected to be evaluated in the EIS, given their anticipated viability of meeting the purpose and need of the Watershed Project.

— Proposed Action Alternative—Modernization. This alternative would evaluate rehabilitating the existing antiquated Karnak Facility by modernizing and repairing the facilities. The proposed action is to demolish two facilities on the west side of the levee and build a new facility. The district will install temporary cofferdams on the west side to remove these facilities and gain access to the existing outlets. The existing outlets will be reused to prevent need of disturbing the levee. A new facility will be built on the west side to replace the 1929 and 1952 facilities. The 1914 facility will remain and be rehabilitated with new systems/pumps. The existing outlet structures will be reused and relined at all three existing discharge culvert locations. This significantly reduces the environmental impacts from this project. Temporary cofferdams may need to be installed on the east side of the levee next to the East Canal depending on water level. This may be necessary to safely finish the installation of the liners and a fish barrier. No equipment will be driven into the East Canal and no permanent impacts will take place to habitat on the East Canal. Fill will be about 1,500 cubic yards on the west side for the new facility, but it will not change the existing footprint in the watercourse. This alternative will provide continued flood protection within the Sutter Basin and continually allow access to SR 113 for public emergencies.

—Flood Plain Restoration Alternative—Alternative 2. This alternative, a nonstructural alternative, would include purchasing land to restore the floodplain. This would include removing the town of Robbins and removing approximately 31,200 acres of prime farmland within the Sutter Basin. This alternative would not allow the continual use of SR 113 during emergencies.

—No Action. Taking no action alternative would consist of Karnak Drainage Facility continuing its current operations while the facility continually degrades until it becomes impossible to keep the facility operational during active storm events. The No Action Alternative is not expected to meet the project's purpose and need.

Summary of Expected Impacts

Initial cost estimates of the proposed actions have determined that the Federal contribution to construction will exceed $25 million, requiring congressional approval. Per 7 CFR 650.7, an EIS is required when projects require congressional action. The NRCS California State Conservationist, has determined that the preparation of an EIS is required for this watershed project. This EIS will be prepared as required by section 102(2)(C) of the National Environmental Policy Act of 1969 (NEPA); the Council on Environmental Quality Regulations (40 CFR parts 1500-1508); and NRCS regulations that implement NEPA in 7 CFR part 650.

Resource concerns for scoping were identified and categorized as relevant or not relevant to the proposed Project action. RD 1500 and NRCS evaluated the current Karnak Drainage Facility infrastructure along with relevant resource concerns for each proposed solution. Environmental resources in the project area consist of the natural and man-made environment. Resource concerns to be identified and addressed in the Watershed Plan-EIS include Cultural and Historic Resources; Land Resources/Prime Farmland; Geology and Soils; Public Safety; Socioeconomics/Environmental Justice; Water Resources; Vegetation/Invasive and Non-native Plant Species; Wetlands and Riparian Areas; Fish and Wildlife/Fish Habitat; and Special Status Species/Migratory Bird Treaty Act Species.

Anticipated Permits and Authorizations

The following permits and authorizations are anticipated to be required:

• Clean Water Act (CWA) Section 404 Permit: Proposed Action may require permit from the U.S. Army Corps of Engineers

• CWA Section 401 Permit: Project will require water quality certification

• CWA Section 402 Permit: Project may require National Pollutant Discharge Elimination System Permit

• Central Valley Flood Protection Board (CVFPB): A local dam safety and flood plain permit may be required

• U.S. Fish and Wildlife Service ESA Section 7 Consultation

• National Marine Fisheries Service ESA Section 7 Consultation

• National Historic Preservation Act (NHPA) section 106 Consultation with the State Historic Preservation Office (SHPO), Tribal Historic Preservation Office (THPO), and Tribes

• County—Permit: Implementation of the proposed Federal action may require permit from Sutter County

Schedule of Decision-Making Process

A Draft EIS (DEIS) will be prepared and circulated for review and comment by agencies, Tribes, consulting parties, and the public for 45 days per 40 CFR 1503.1, 1502.20, 1506.11, and 1502.17, and 7 CFR 650.13. The DEIS is anticipated to be published in the Federal Register in 2023, approximately 6 months after publication of this NOI. A Final EIS is anticipated to be published within 6 months of completion of the public comment period for the DEIS. NRCS invites agencies and individuals who have special expertise, legal jurisdiction, or interest in the McGriff lakes—Sutter Basin Watershed to participate and identify potential alternatives. The responsible Federal official and decision maker for the NRCS is the California NRCS State Conservationist.

Public Scoping Process

A public scoping meeting was held on March 30, 2021. Comments received, including the names and addresses of those who comment, will be part of the public record. Scoping meeting presentation materials are available on the project website: https://sutterbasinwater.com/flood-control-flood-safety-rehabilitation-project/. The date, time, and location for a second meeting will be announced on the project website.

Federal, State, Tribal, local agencies and representatives, and the public were invited to take part in this watershed plan scoping period. One public scoping meeting sought input on issues of economic, environmental, cultural, and social importance in the watershed. RD 1500 and NRCS organized the public scoping meeting to provide an opportunity to review and evaluate the Project alternatives, express concern or support, and gain further information regarding the Project. To determine the most viable alternatives to carry forward to the EIS, RD 1500 used input obtained during public scoping discussions to focus on relevant resource concerns and issues and eliminated those that were not relevant from further detailed study.

Identification of Potential Alternatives, Information, and Analyses

NRCS invites agencies, Tribes, consulting parties, and individuals who have special expertise, legal jurisdiction, or interest in the Watershed Project to provide comments concerning the scope of the analysis and identification of potential alternatives, information, and analyses relevant to the Proposed Action.

NRCS will coordinate the scoping process to correspond with any required NHPA processes, as allowed in 36 CFR 800.2(d)(3) and 800.8 (54 U.S.C. 306108). The information about historic and cultural resources within the area potentially affected by the proposed project will assist NRCS in identifying and evaluating impacts to such resources in the context of both NEPA and NHPA.

NRCS will consult with Native American tribes on a government-to-government basis in accordance with 36 CFR 800.2 and 800.3, Executive Order 13175, and other policies. Tribal concerns, including impacts on Indian trust assets and potential impacts to cultural resources and historic properties, will be given due consideration.

Authorities

This document is published pursuant to the NEPA regulations regarding publication of a notice of intent to issue an environmental impact statement (40 CFR 1501.9(d)). Watershed planning is authorized under the Watershed Protection and Flood Prevention Act of 1954, as amended, (Pub. L. 83-566) and the Flood Control Act of 1944 (Pub. L. 78-534).

Federal Assistance Programs

The title and number of the Federal assistance program as found in the Assistance Listing (formerly referred to as the Catalog of Federal Domestic Assistance) to which this document applies is 10.904 Watershed Protection and Flood Prevention.

Executive Order 12372

Executive Order 12372, “Intergovernmental Review of Federal Programs,” requires consultation with State and local officials that would be directly affected by proposed Federal financial assistance. The objectives of the Executive order are to foster an intergovernmental partnership and a strengthened federalism, by relying on State and local processes for State and local government coordination and review of proposed Federal financial assistance and direct Federal development. This program is subject to the provisions of Executive Order 12372, which requires intergovernmental consultation with State and local officials.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA TARGET Center at (202) 720-2600 (voice and TTY). Additionally, program information may be made available in languages other than English.

To file a program discrimination complaint, complete the USDA Program Discrimination Complaint Form, AD-3027, found online at: https://www.usda.gov/oascr/how-to-file-a-program-discrimination-complaint and at any USDA office or write a letter addressed to USDA and provide in the letter all the information requested in the form. To request a copy of the complaint form, call (866) 632 9992. Submit your completed form or letter to USDA by mail to: U.S. Department of Agriculture, Office of the Assistant Secretary for Civil Rights, 1400 Independence Avenue SW, Washington, DC 20250-9410 or email: OAC@usda.gov.

USDA is an equal opportunity provider, employer, and lender.

Carlos Suarez Oliva,
California State Conservationist, Natural Resources Conservation Service.

[FR Doc. 2022-27083 Filed 12-13-22; 8:45 am]

BILLING CODE 3410-16-P